DEPARTMENT OF LABOR

Employment and Training Administration

[TA-W-52,662]

Vantico, Inc., a Subsidiary of Huntsman Advanced Materials, LLC, Minneapolis, MN; Notice of Termination of Investigation

Pursuant to section 221 of the Trade Act of 1974, as amended, an investigation was initiated on August 22, 2003 in response to a petition filed by a state agency representative on behalf of workers of Vantico, Inc., a subsidiary of Huntsman Advanced Materials, LLC, Minneapolis, Minnesota.

The petition regarding the investigation has been deemed invalid. A representative of Vantico, Inc., has reported that there is no such facility. Consequently, further investigation would serve no purpose and the investigation is terminated.

Signed at Washington, DC, this 23rd day of September, 2003.
Linda G. Poole,
Certifying Officer, Division of Trade Adjustment Assistance.

[FR Doc. 03-27450 Filed 10-30-03; 8:45 am]

BILLING CODE 4510-30-P